INTERNATIONAL TRADE COMMISSION

[Investigation No. 731-TA-954 (Final) (Remand)]

Carbon and Certain Alloy Steel Wire Rod From Canada; Notice and Scheduling of Remand Proceeding

AGENCY: United States International Trade Commission.

ACTION: Notice.

SUMMARY: The U. S. International Trade Commission (the Commission) hereby gives notice of proceedings in the NAFTA Panel Review-ordered remand in Investigation No. 731-TA-954 (Final).

DATES: Effective: September 16, 2004.

FOR FURTHER INFORMATION CONTACT: Mary Messer, Office of Investigations, telephone 202-205-3193 or Karen V. Driscoll, Office of General Counsel, telephone 202-205-3092, U.S. International Trade Commission, 500 E St., SW., Washington, DC 20436. Hearing-impaired individuals are advised that information on this matter can be obtained by contacting the Commission's TDD terminal on 202-205-1810. General information concerning the Commission may also be obtained by accessing its Internet server (http://www.usitc.gov).

SUPPLEMENTARY INFORMATION:

Reopening Record

In October 2002, the Commission made a final affirmative determination in an antidumping investigation regarding wire rod imports from Canada.¹ On November 27, 2002, Canadian Respondent Ivaco requested a NAFTA Panel Review of this determination (Secretariat File No. USA-CDA-2002-1904-09).

¹ Carbon and Certain Alloy Steel Wire Rod from Brazil, Canada, Germany, Indonesia, Mexico, Moldova, Trinidad and Tobago and Ukraine, 67 Fed. Reg. 66,662 (Int'l Trade Comm'n 2002). The Commission's views were published in Carbon and Certain Alloy Steel Wire Rod from Brazil, Canada, Germany, Indonesia, Mexico, Moldova, Trinidad and Tobago, Turkey, and Ukraine, Inv. Nos. 701-TA-417-421 and 731-TA-953, 954, 956-959, 961 and 962 (Final) USITC Pub. 3546 (October 2002).

On August 12, 2004, the NAFTA Panel issued an opinion requiring the Commission to reexamine certain aspects of its investigation and determination, including rejecting as untimely a September 24, 2002 submission by Canadian Respondent Ivaco. The Commission is required to respond to the Panel's remand order within 60 days of the issuance of the order or by October 12, 2004.

The Commission is reopening the record in the final investigation on wire rod from Canada for the limited purpose of placing the September 24, 2002 submission by Ivaco on the record. The September 24, 2002 submission is a public document, and will be obtainable by accessing the Commission's Electronic Document Information System (EDIS) on its Internet server (http://www.usitc.gov).

Participation in the Proceeding

Only those parties who were parties to the original administrative proceeding (i.e., parties listed on the Commission Secretary's service list), may participate in this remand proceeding. No additional filings with the Commission will be necessary for these parties to participate in the remand proceeding. Parties that are participating in the remand proceeding may file comments on this document on or before September 24, 2004. Information obtained during the remand proceeding will be governed, as appropriate, by the administrative protective order (“APO”) in effect in the original investigation.

Written Submissions

Each party participating in this remand proceeding may submit one set of written comments to the Commission. These comments must be concise and limited specifically to comments on the September 24, 2002 submission. Any material in the comments that does not address the content of the September 24, 2002 submission will be disregarded. No new factual information may be included in such comments. Comments shall be submitted in a font of no smaller than 11-point (Times New Roman) and shall be limited to no more than five double-spaced pages (inclusive of footnotes, tables, graphs, exhibits, appendices, etc.). These comments must be filed at the Commission no later than the close of business on September 24, 2004.

All comments must conform with the provisions of section 201.8 of the Commission's rules; any submissions that contain business proprietary information (BPI) must also conform with the requirements of sections 201.6, 207.3, and 207.7 of the Commission's rules. In accordance with sections 201.16 (c) and 207.3 of the rules, each document filed by a party to the original investigation must be served on all other parties to the original investigation (as identified by either the public or BPI service list), and a certificate of service must be timely filed. The Secretary will not accept a document for filing without a certificate of service.

Authority: This action is taken under the authority of the Tariff Act of 1930, title VII.

Issued: September 16, 2004.
By order of the Commission.
Marilyn R. Abbott,
Secretary to the Commission.

[FR Doc. 04-21259 Filed 9-20-04; 8:45 am]

BILLING CODE 7020-02-P